SECURITIES AND EXCHANGE COMMISSION

[Release No. 35-27467]

Filings Under the Public Utility Holding Company Act of 1935, as Amended (“Act”)

November 16, 2001.

Notice is hereby given that the following filing(s) has/have been made with the Commission pursuant to provisions of the Act and rules promulgated under the Act. All interested persons are referred to the application(s) and/or declaration(s) for complete statements of the proposed transaction(s) summarized below. The application(s) and/or declaration(s) and any amendment(s) is/are available for public inspection through the Commission's Branch of Public Reference.

Interested persons wishing to comment or request a hearing on the application(s) and/or declaration(s) should submit their views in writing by December 10, 2001, to the Secretary, Securities and Exchange Commission, Washington, DC 20549-0609, and serve a copy on the relevant applicant(s) and/or declarant(s) at the address(es) specified below. Proof of service (by affidavit or, in the case of an attorney at law, by certificate) should be filed with the request. Any request for hearing should identify specifically the issues of facts or law that are disputed. A person who so requests will be notified of any hearing, if ordered, and will receive a copy of any notice or order issued in the matter. After December 10, 2001, the application(s) and/or declaration(s), as filed or as amended, may be granted and /or permitted to become effective.

National Fuel Gas Company (70-9987)

National Fuel Gas Company (“National”), a registered holding company, 10 Lafayette Square, Buffalo, New York 14203, has filed an application-declaration under sections 32 and 33 of the Act and rule 53 under the Act.

National seeks an increase in its aggregate investment limit in exempt wholesale generators, as defined in section 32 of the Act, (“EWGs”), and foreign utility companies, as defined in section 33 of the Act, (“FUCOs”). By order of the Commission dated March 20, 1998 (HCAR No. 26847) as modified by order dated April 21, 2000 (HCAR No. 27170) (“1998 Order”), National and its subsidiaries are authorized to engage in a program of external financing, intrasystem financing and other related transactions for the period through December 31, 2002. Among other approvals granted, the Commission authorized National to: (i) Issue and sell additional long-term debt and equity securities not to exceed $2 billion outstanding at any one time; (ii) issue and sell up to $750 million principal amount of short-term debt in the form of commercial paper and borrowings under credit facilities; and (iii) guarantee securities of its subsidiaries and provide other forms of credit support with respect to obligations of its subsidiaries as may be necessary or appropriate to enable such subsidiaries to carry on in the ordinary course of business in an aggregate amount not to exceed $2 billion outstanding at any one time.

National was also authorized in the 1998 Order to use the proceeds of authorized financing to invest in and enter into guarantees with respect to the obligations of EWGs and FUCOs, provided that its “aggregate investment” (as defined under rule 53 of the Act) in EWGs and FUCOs does not exceed 50% of its consolidated retained earnings (as defined in rule 53), except for short-term borrowings by National to provide funds to the National System Money Pool, which may not be used to fiance the acquisition of any interest in a FUCO or EWG. As of August 31, 2001, National's aggregate investment in EWEGs and FUCOs was approximately $130,074,000, or 22.3% of National's average consolidated retained earnings ($583,737,000) for the four quarters ended June 30, 2001.

National is now requesting, under rule 53(c), authority to utilize the proceeds of financing and guarantees, as authorized under the 1998 Order or in any subsequent proceeding, to increase its “aggregate investment” in EWGs and FUCOs (“Exempt Projects”) to $750 million, which is equal to approximately 128% of National's average consolidated retained earnings for the four quarters ended June 30, 2001.

For the Commission, by the Division of Investment Management, pursuant to delegated authority.
Margaret H. McFarland,
Deputy Secretary.

[FR Doc. 01-29249 Filed 11-21-01; 8:45 am]

BILLING CODE 8010-01-M